DEPARTMENT OF EDUCATION

Privacy Act of 1974; System of Records

AGENCY: Federal Student Aid, Department of Education.

ACTION: Notice of an altered system of records.

SUMMARY: In accordance with the Privacy Act of 1974, as amended (Privacy Act), 5 United States Code (U.S.C.) 552a, the Chief Operating Officer for Federal Student Aid (FSA) of the U.S. Department of Education (the Department) publishes this notice proposing to revise the system of records entitled “Student Aid Internet Gateway (SAIG), Participation Management System” (18-11-10).

The SAIG, Participation Management System is a system of records containing contact information that individuals affiliated with an authorized entity provide to request electronic access to the Department's Title IV Federal Student Aid Systems. This notice updates the categories of individuals covered by this system to include individuals affiliated with secondary schools, local educational agencies (LEAs) and States who are authorized by the Department and their respective secondary school, LEA or State to access the Department's Title IV Federal Student Aid Systems.

This change to the SAIG, Participation Management System is needed to enable the Department to implement a program designed to improve access and promote enrollment in postsecondary education by facilitating students' completion of the Free Application for Federal Student Aid (FAFSA). As part of this program (the FAFSA Completion program), the Department will authorize a small number of secondary schools and LEAs to enroll through the SAIG, Participation Management System to enable these entities to use the Department's Title IV Federal Student Aid Systems to obtain information about their students' completion of the FAFSA. In future years, the Department may seek to expand the FAFSA Completion program to other secondary schools, LEAs, and States across the Nation, which would substantially expand the number of secondary schools, LEAs and States approved by the Department to access the Department's Title IV Federal Student Aid Systems to determine whether their students have completed the FAFSA.

While the FAFSA Completion program provided the initial impetus for the Department to update the SAIG, Participation Management System, the Department has also determined that other changes are appropriate. Specifically, through this notice, the Department proposes to update the system locations, the categories of records maintained in this system, the system's purposes, and the system's routine uses (by, for example, adding an additional routine use, as required by the Office of Management and Budget (OMB)).

DATES: We must receive your comments about this proposed system of records on or before May 19, 2010.

The Department filed a report describing the altered system of records covered by this notice with the Chair of the Senate Committee on Homeland Security and Governmental Affairs, the Chair of the House Committee on Oversight and Government Reform, and the Administrator of the Office of Information and Regulatory Affairs, Office of Management and Budget (OMB) on April 14, 2010. This altered system of records will become effective at the later date of: (1) The expiration of the 40-day period for OMB review on May 24, 2010; or (2) the expiration of a 30-day OMB Review period on May 19, 2010, if OMB grants the Department's request for a 10-day waiver of the review period, unless the system of records needs to be changed as a result of public comment or OMB review.

ADDRESSES: Address all comments about the proposed altered system of records to Director, Application Processing Division, Program Management Systems, 830 First Street, NE., room 63C4, Union Center Plaza (UCP), Washington, DC 20202-5454. If you prefer to send your comments through the Internet, use the following address: comments@ed.gov.

You must include the term “Student Aid Internet Gateway, Participation Management System” in the subject line of your electronic message.

During and after the comment period, you may inspect all public comments about this notice in room 44D2, UCP, 4th Floor, 830 First Street, NE., Washington, DC, between the hours of 8 a.m. and 4:30 p.m., local time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Director, Application Processing Division, Program Management Systems, 830 First Street, NE., room 63C4, UCP, Washington, DC 20202-5454. Telephone number: (202) 377-3205. If you use a telecommunications device for the deaf (TDD), call the Federal Relay Service (FRS), toll free, at 1-800-877-8339.

Individuals with disabilities can obtain this document in an accessible format (e.g., braille, large print, audiotape, or computer diskette) on request to the contact person listed in the preceding paragraph.

SUPPLEMENTARY INFORMATION:

Preamble

The Privacy Act (5 U.S.C. 552a(e)(4)) requires the Department to publish in the Federal Register this notice of an altered system of records maintained by the Department. The Department's regulations implementing the Privacy Act are contained in the Code of Federal Regulations (CFR) in 34 CFR part 5b.

The Privacy Act applies to a record about an individual that is maintained in a system of records from which information is retrieved by a unique identifier associated with each individual, such as a name or Social Security number. The information about each individual is called a “record,” and the system, whether manual or computer-based, is called a “system of records.”

The Privacy Act requires each agency to publish notices of altered systems of records in the Federal Register and to prepare, whenever the agency publishes a new system of records or makes a significant change to an established system of records, reports to the Chair of House Committee on Oversight and Government Reform of the House of Representatives, and the Chair of the Committee on Homeland Security and Governmental Affairs of the Senate, and the Administrator of the Office of Information and Regulatory Affairs, OMB.

A system of records is considered “altered” whenever an agency expands the types or categories of information maintained, significantly expands the types or categories of individuals about whom records are maintained, changes the purpose for which the information is used, changes the equipment configuration in a way that creates substantially greater access to the records, or adds a routine use disclosure to the system. Since the last correction to this system of records, which was published in the Federal Register on January 28, 2005 (70 FR 4112-4115), a number of changes are needed to update the current system of records. Most significantly, this notice updates the categories of individuals covered by this system to include individuals affiliated with secondary schools, LEAs and States who are authorized by the Department and their respective secondary school, LEA or State to access the Department's Title IV Federal Student Aid Systems. This notice also updates the system locations, the categories of records maintained in the system, the system's purposes, adds an additional routine use disclosure that is required by OMB, and makes other minor updates to the system.

Electronic Access to This Document

You may view this document, as well as all other documents of this Department published in the Federal Register, in text or Adobe Portable Document Format (PDF) on the Internet at the following site: http://www.ed.gov/news/fedregister/index.html.

To use PDF you must have the Adobe Acrobat Reader, which is available free at this site.

Note: The official version of this document is the document published in the Federal Register. Free Internet access to the official edition of the Federal Register and the Code of Federal Regulations is available on GPO Access at: http://www.gpoaccess.gov/nara/index.html.

Dated: April 14, 2010.
William J. Taggart,
Chief Operating Officer, Federal Student Aid U.S. Department of Education.

For the reasons discussed in the preamble, the Chief Operating Officer, Federal Student Aid of the U.S. Department of Education (Department) publishes a notice of an altered system of records to read as follows:

System Number:

18-11-10.

SYSTEM NAME:

Student Aid Internet Gateway (SAIG), Participation Management System.

SECURITY CLASSIFICATION:

None.

SYSTEM LOCATION:

Pearson, PLC, 2510 N. Dodge, Iowa City IA 52245-0030. (This facility hosts the database for the Participation Management System.)

Vangent, Inc., 2450 Oakdale Boulevard, Coralville IA 52241-9728. (This facility stores paper documents that are held for less than 12 months.)

Iron Mountain, 4437 121st Street, Urbandale, IA 50323-2313. (This facility stores paper documents for documents that are held for more than 12 months.)

Virtual Data Center (VDC), Dell Perot System, 2300 West Plano Parkway, Plano, TX 75075-8427. (This facility hosts the SAIG Enrollment Web site (titled FSAWebEnrollment.ed.gov) through which users enroll for electronic access to the Department's Title IV Federal Student Aid Systems.)

CATEGORIES OF INDIVIDUALS COVERED BY THE SYSTEM:

This system contains records on those individuals who are eligible to participate in the Department's Title IV Federal Student Aid Systems—to participate in the electronic exchange of data with the Department of Education via the SAIG, or enroll in the Participation Management System for access to the Department's Central Processing System (CPS) Online, eCampus-Based (eCB) System, National Student Loan Data System (NSLDS) Online, Common Origination and Disbursement (COD) System, Financial Management System (FMS), Debt Management and Collections System (DMCS), Title IV Additional Servicers (TIVAS), and Access Information Management System (AIMS). Those individuals eligible to participate include: student financial aid administrators, authorized employees or representatives of postsecondary institutions, authorized employees or representatives of third-party servicers, authorized employees or representatives of lenders, authorized employees or representatives of guaranty agencies, authorized employees or representatives of State scholarship programs, authorized employees or representatives of States, authorized employees or representatives of LEAs, and authorized employees or representatives of secondary schools.

CATEGORIES OF RECORDS IN THE SYSTEM:

This system consists of contact information that individuals affiliated with an authorized entity (i.e., postsecondary institutions, third party servicers, lenders, guaranty agencies, State scholarship programs, States, LEAs and secondary schools that the Department authorizes to access the Department's Title IV Federal Student Aid Systems) provide to request electronic access to the Department's Title IV Federal Student Aid Systems. This contact information includes the individual's name, address, and other authentication information (mother's maiden name, user's Social Security number, and the user's date of birth).

AUTHORITY FOR MAINTENANCE OF THE SYSTEM:

Title IV of the Higher Education Act of 1965, as amended (HEA); 20 U.S.C. 1070 et seq. The collection of Social Security numbers of users of this system is authorized by 31 U.S.C. 7701 and Executive Order 9397, as amended by Executive Order 13478 (November 18, 2008).

PURPOSE(S):

The information in this system is maintained for the purposes of: (1) Processing stored data from the SAIG Enrollment Forms (Web and paper versions); (2) maintaining the SAIG Enrollment Web site (titled FSAWebEnrollment.ed.gov); (3) managing the assignment of individual electronic SAIG mailbox numbers, known as “TG numbers”; and (4) authenticating users of the CPS Online, eCB System, NSLDS Online, COD System, FMS, DMCS, TIVAS, and AIMS.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act of 1974, as amended (Privacy Act), under a computer matching agreement.

(1) Program Disclosures. The Department may disclose records maintained in the SAIG, Participation Management System for the purpose of allowing authorized users who are eligible to participate in the electronic exchange of data with the Department to transmit files to and from the following Department databases and access the Department's Web sites online, based on the approved program functions of each of the Department's systems that include, but are not limited to the following:

(a) COD System;

(b) CPS, under the Federal Student Aid Application File;

(c) eCB System;

(d) NSLDS;

(e) FMS;

(f) DMCS, under Common Services for Borrowers (CSB);

(g) TIVAS; and

(h) AIMS.

(2) Freedom of Information Act (FOIA) or Privacy Act Advice Disclosure. The Department may disclose records to the Department of Justice (DOJ) or the Office of Management and Budget (OMB) if the Department seeks advice regarding whether records maintained in this system of records are required to be disclosed under the FOIA or the Privacy Act.

(3) Disclosure to the DOJ. The Department may disclose records to the DOJ to the extent necessary for obtaining DOJ advice on any matter relevant to an audit, inspection, or other inquiry related to the programs covered by this system.

(4) Contract Disclosure. If the Department contracts with an entity to perform any function that requires disclosing records to the contractor's employees, the Department may disclose the records to those employees. Before entering into such a contract, the Department shall require the contractor to establish and maintain the safeguards required under the Privacy Act (5 U.S.C. 552a(m)) with respect to the records in the system.

(5) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department, or any of its components;

(ii) Any Department employee in his or her official capacity;

(iii) Any Department employee in his or her individual capacity where the DOJ agrees to or has been requested to provide or arrange for representation of the employee;

(iv) Any Department employee in his or her individual capacity where the Department has agreed to represent the employee;

(v) The United States where the Department determines that the litigation is likely to affect the Department or any of its components.

(b) Disclosure to DOJ. If the Department determines that disclosure of certain records to the DOJ is relevant and necessary to litigation or ADR, and is compatible with the purpose for which the records were collected, the Department may disclose those records as a routine use to the DOJ.

(c) Adjudicative Disclosures. If the Department determines that disclosure of certain records to an adjudicative body before which the Department is authorized to appear or to an individual or entity designated by the Department or otherwise empowered to resolve or mediate disputes, is relevant and necessary to the litigation or ADR, the Department may disclose those records as a routine use to the adjudicative body, individual, or entity.

(d) Parties, Counsel, Representatives and Witnesses. If the Department determines that disclosure of certain records to a party, counsel, representative or witness is relevant and necessary to the litigation or ADR, the Department may disclose those records as a routine use to the party, counsel, representative or witness.

(6) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(7) Congressional Member Disclosure. The Department may disclose records to a Member of Congress in response to an inquiry from the Member made at the written request of the individual whose records are being disclosed. The Member's right to the information is no greater than the right of the individual who requested it.

(8) Disclosure for Use by Other Law Enforcement Agencies. The Department may disclose information to any Federal, State, or local authority responsible for enforcing, investigating, or prosecuting violations of administrative, civil, or criminal law or regulation if that information is relevant to any enforcement, regulatory, investigative, or prosecutorial responsibility within the receiving entity's jurisdiction.

(9) Enforcement Disclosure. In the event that information in this system of records indicates, either on its face or in connection with other information, a violation or potential violation of any applicable statute, regulation, or order of a competent authority, the Department may disclose the relevant records to the appropriate agency, whether foreign, Federal, State, tribal or local, charged with the responsibility of investigating or prosecuting that violation or charged with enforcing or implementing the statute, Executive Order, rule, regulation, or order issued pursuant thereto.

(10) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(11) Employee Grievance, Complaint or Conduct Disclosure. If a record is relevant and necessary to an employee grievance, complaint, or disciplinary action, the Department may disclose a record in this system of records to another agency of the Federal Government if the record is relevant to one of the following proceedings regarding a present or former employee of the Department: Complaint, grievance, discipline or competence determination proceedings. The disclosure may only be made during the course of the proceeding.

(12) Labor Organization Disclosure. The Department may disclose records from this system of records to an arbitrator to resolve disputes under a negotiated grievance process or to officials of a labor organization recognized under 5 U.S.C. chapter 71 when relevant and necessary to their duties of exclusive representation.

(13) Disclosure in the Course of Responding to a Breach of Data. The Department may disclose records from this system to appropriate agencies, entities, and persons when (a) the Department suspects or has confirmed that the security or confidentiality of information in the system of records has been compromised; (b) the Department has determined that as a result for the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

DISCLOSURE TO CONSUMER REPORTING AGENCIES:

Disclosure pursuant to 5 U.S.C. 552a(b)(12): The Department may disclose the following information to a consumer-reporting agency regarding a valid overdue claim of the Department: (1) The name, address, taxpayer identification number and other information necessary to establish the identity of the individual responsible for the claim; (2) the amount, status, and history of the claim; and (3) the program under which the claim arose. The Department may disclose the information specified in this paragraph under 5 U.S.C. 552a(b)(12) and the procedures contained in 31 U.S.C. 3711(f). A consumer reporting agency to which these disclosures may be made is defined at 15 U.S.C. 1681a(f) and 31 U.S.C. 3701(a)(3).

POLICIES AND PRACTICES FOR STORING, RETRIEVING, ACCESSING, RETAINING, AND DISPOSING OF RECORDS IN THE SYSTEM:

STORAGE:

Records are maintained in a computer database as well as in hard copy. All hard copy forms are loaded into an imaging system accessible through internal systems only. Paper documents less than 12-months old are stored in locked file cabinets at the Vangent, Inc. facility in Coralville, Iowa. Paper documents older than 12 months are stored at Iron Mountain secure storage facility. Documents are stored for three years after final contract payment. After the three-year period, documents are subsequently sent to the Federal Records Center for storage.

RETRIEVABILITY:

All individuals affiliated with authorized entities that have been granted access (“users of the SAIG, Participant Management System”) to the Department's Title IV Federal Student Aid Systems whose information is included in this system of records have a unique user identification (ID) with a password. Records are retrieved by the names of the individual user and/or their unique system User ID.

SAFEGUARDS:

All users of the SAIG, Participation Management System will have a unique user ID with a password.

All physical access to the data housed at the Pearson location and within the VDC, and the locations of Department contractors where this system of records is maintained, is controlled and monitored by security personnel who check each individual entering the building for his or her employee or visitor badge.

The computer system employed by the Department offers a high degree of resistance to tampering and circumvention. This security system limits data access to Department and contract staff on a “need-to-know” basis, and controls individual users' ability to access and alter records within the system.

All interactions by users of the SAIG, Participation Management System are recorded.

RETENTION AND DISPOSAL:

Documents are stored for 3 years after a user of the SAIG, Participation Management System's individual enrollment account is terminated or closed. Thereafter, documents are sent to the Federal Records Center for storage. These records are covered by the General Records Schedule (GRS) 24, Item 6(a). The retention requirement is to destroy/delete the record 6 years after the user account is terminated or password is altered, or when no longer needed for investigative or security purposes, whichever is later.

SYSTEM MANAGER(S) AND ADDRESS:

Director, Application Processing Division, Program Management Systems, 830 First Street, NE., room 63C4, Union Center Plaza (UCP), Washington, DC 20202-5454.

NOTIFICATION PROCEDURE:

If you wish to determine whether a record exists regarding you in this system of records, you must provide the system manager your name, date of birth, and Social Security number. Requests for notification about whether the system of records contains information about an individual must meet the requirements of the Department's Privacy Act regulations at 34 CFR 5b.5, including proof of identity.

RECORD ACCESS PROCEDURES:

If you wish to gain access to a record in this system, you must contact the system manager and provide information as described in the Notification Procedures. Such requests must meet the requirements of the Department's Privacy Act regulations at 34 CFR 5b.5, including proof of identity.

CONTESTING RECORD PROCEDURES:

If you wish to contest or change the content of a record about you in the system of records, you must contact the system manager with the information described in the notification procedures. Requests to amend a record must meet the requirements of the Department's Privacy Act regulations at 34 CFR 5b.7.

RECORD SOURCE CATEGORIES:

Information in this system is obtained from the following entities: student financial aid administrators, postsecondary institutions, third-party servicers, lenders, guaranty agencies, State scholarship programs, States, LEAs, and secondary schools.

EXEMPTIONS CLAIMED FOR THE SYSTEM:

None.

[FR Doc. 2010-8959 Filed 4-16-10; 8:45 am]

BILLING CODE 4000-01-P